SMALL BUSINESS ADMINISTRATION

[Disaster Declaration #18143 and #18144; GEORGIA Disaster Number GA-00158]

Presidential Declaration Amendment of a Major Disaster for the State of Georgia

AGENCY: U.S. Small Business Administration.

ACTION: Amendment 1.

SUMMARY: This is an amendment of the Presidential declaration of a major disaster for the State of Georgia (FEMA-4738-DR), dated 09/07/2023.

Incident: Hurricane Idalia.

Incident Period: 08/30/2023.

DATES: Issued on 10/02/2023.

Physical Loan Application Deadline Date: 11/06/2023.

Economic Injury (EIDL) Loan Application Deadline Date: 06/07/2024.

ADDRESSES: Submit completed loan applications to: U.S. Small Business Administration, Processing and Disbursement Center, 14925 Kingsport Road, Fort Worth, TX 76155.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of GEORGIA, dated 09/07/2023, is hereby amended to include the following areas as adversely affected by the disaster:

Primary Counties (Physical Damage and Economic Injury Loans): Berrien, Brooks.

Contiguous Counties (Economic Injury Loans Only):

Georgia: Atkinson, Coffee, Irwin, Thomas.

Florida: Jefferson.

All other information in the original declaration remains unchanged.

(Catalog of Federal Domestic Assistance Number 59008)

Francisco Sánchez, Jr.,
Associate Administrator, Office of Disaster Recovery & Resilience.

[FR Doc. 2023-22392 Filed 10-6-23; 8:45 am]

BILLING CODE 8026-09-P